NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before January 9, 2006. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means (Note the new address for requesting schedules using e-mail):

Mail: NARA (NWML), 8601 Adelphi Road, College Park, MD 20740-6001.

E-mail: requestschedule@nara.gov.

Fax: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending (Note the New Address for Requesting Schedules Using E-Mail)

1. Department of Agriculture, Food Safety and Inspection Service (N1-462-04-10, 6 items, 6 temporary items). Inputs, master files, outputs, system documentation, and electronic mail and word processing copies associated with an electronic system used to collect and report consumer input on food safety concerns regarding meat, poultry, and egg products.

2. Department of Agriculture, Food Safety and Inspection Service (N1-462-04-22, 8 items, 8 temporary items). Inputs, master files, outputs, system documentation, and electronic mail and word processing copies associated with an electronic system that schedules and tracks laboratory test results for contaminants found in meat, poultry, and egg products at domestic meat and poultry plants. Test results were previously approved as permanent as part of other laboratory and enforcement electronic systems.

3. Department of Health and Human Services, Food and Drug Administration (N1-88-05-2, 36 items, 29 temporary items). Records of the Center for Drug Evaluation and Research relating to research, compliance, manufacturing, efficacy testing, approval, and inspection activities associated with regulating drug products. Included are such records as case management tracking data, monthly lists of approved drugs, company proprietary manufacturing data file, drug reviewer working files, product name analysis database, post-marketing commitments quarterly reports, and post-approval commitments for abbreviated new drug applications. This schedule updates the descriptions for some of these recordkeeping files previously approved for disposal. Also included are electronic copies of documents created using electronic mail and word processing. Proposed for permanent retention are recordkeeping copies of product efficacy reviews and annual approved drug lists which were previously approved for disposal. Also proposed for permanent retention are recordkeeping copies of historical database records relating to approved drug products, post-marketing commitment tracking system and documentation, and documentation relating to components of a database management system previously scheduled as permanent. This schedule authorizes the agency to apply the proposed disposition instructions to any recordkeeping medium.

4. Department of State, Permanent Mission of the U.S.A. to the Organization of American States (N1-84-05-1, 15 items, 11 temporary items). Principal Officers' files relating to routine matters and schedules of daily activities, extra copies of outgoing correspondence, public speaking and other news media files, and Mission program plans. Also included are electronic copies of records created using electronic mail and word processing. Proposed for permanent retention are Principal Officers' files pertaining to policy development and the setting of precedents, briefing books, Inter-American Commission on Human Rights petition and case files, and Mission subject and country files.

5. Department of Transportation, Bureau of Transportation Statistics (N1-570-05-2, 5 items, 4 temporary items). Unpublished internal directives and guidance, and copies of published internal directives maintained for reference. Also included are electronic copies of records created using electronic mail and word processing. Proposed for permanent retention are recordkeeping copies of internal directives. This schedule authorizes the agency to apply the proposed disposition instructions to any recordkeeping medium.

6. Department of Transportation, Federal Motor Carrier Safety Administration (N1-557-05-11, 14 items, 14 temporary items). Records accumulated by the Associate Administrator for Administration, including administrative files, budget background records, chronological files, and reference files. Also included are electronic copies of records created using electronic mail and word processing. This schedule authorizes the agency to apply the proposed disposition instructions to any recordkeeping medium.

7. Department of the Treasury, Office of the Deputy Assistant Secretary for Human Resources (N1-56-06-1, 3 items, 3 temporary items). Records relating to awards of special achievement or accomplishment during or at the conclusion of an individual's agency career. Included are such records as nomination forms, concurrences, professional biographies, and copies of award certificates. Also included are electronic copies of records created using electronic mail and word processing.

8. Department of the Treasury, U.S. Mint (N1-104-05-2, 3 items, 2 temporary item). Electronic copies of records created using electronic mail and word processing that pertain to the daily activities of senior officials, including schedules, calendars, appointment books, and logs. Proposed for permanent retention are recordkeeping copies of these files.

9. Department of Veterans Affairs, Veterans Health Administration (N1-15-05-3, 11 items, 11 temporary items). Inputs, outputs, master files, backups, documentation, and electronic mail and word processing copies associated with an electronic system used to store and track data about Administration employees' and other workers' occupational injuries and illnesses.

10. Environmental Protection Agency, Office of Prevention, Pesticides, and Toxic Substances (N1-412-05-9, 5 items, 5 temporary items). Toxic Substances Control Act Section 12(b) Notice of Export Files, with related tracking system. Also included are electronic copies of records created using electronic mail and word processing.

11. Federal Reserve System, Board of Governors (N1-82-05-1, 13 items, 4 temporary items). Inputs, outputs, and restricted master files associated with an electronic system used to collect and report data on residential loan applications. Proposed for permanent retention are recordkeeping copies of non-restricted ultimate, final, panel, and combined census master files, aggregate reports, and system documentation. This schedule authorizes the agency to apply the proposed disposition instructions to any recordkeeping medium.

Dated: November 17, 2005.
Michael J. Kurtz,
Assistant Archivist for Records Services—Washington, DC.

[FR Doc. 05-23144 Filed 11-22-05; 8:45 am]

BILLING CODE 7515-01-P